DEPARTMENT OF COMMERCE

National Oceanic and Atmospheric Administration

50 CFR Part 300

[Docket No. 161222999-7201-01]

RIN 0648-BG58

Pacific Halibut Fisheries; Catch Sharing Plan

AGENCY: National Marine Fisheries Service (NMFS), National Oceanic and Atmospheric Administration (NOAA), Commerce.

ACTION: Final rule.

SUMMARY: The Assistant Administrator for Fisheries, National Oceanic and Atmospheric Administration (NOAA), on behalf of the International Pacific Halibut Commission (IPHC), publishes as regulations the 2017 annual management measures governing the Pacific halibut fishery that have been recommended by the IPHC and accepted by the Secretary of State. This action is intended to enhance the conservation of Pacific halibut and further the goals and objectives of the Pacific Fishery Management Council (PFMC) and the North Pacific Fishery Management Council (NPFMC).

DATES: The IPHC's 2017 annual management measures are effective March 3, 2017. The 2017 management measures are effective until superseded.

ADDRESSES: Additional requests for information regarding this action may be obtained by contacting the International Pacific Halibut Commission, 2320 W. Commodore Way, Suite 300, Seattle, WA 98199-1287; or Sustainable Fisheries Division, NMFS Alaska Region, P.O. Box 21668, Juneau, AK 99802, Attn: Ellen Sebastian, Records Officer; or Sustainable Fisheries Division, NMFS West Coast Region, 7600 Sand Point Way NE., Seattle, WA 98115. This final rule also is accessible via the Internet at the Federal eRulemaking portal at http://www.regulations.gov, identified by docket number NOAA-NMFS-2016-0159.

FOR FURTHER INFORMATION CONTACT: For waters off Alaska, Rachel Baker or Julie Scheurer, 907-586-7228; or, for waters off the U.S. West Coast, Gretchen Hanshew, 206-526-6147.

SUPPLEMENTARY INFORMATION:

Background

The IPHC has recommended regulations that would govern the Pacific halibut fishery in 2017, pursuant to the Convention between Canada and the United States for the Preservation of the Halibut Fishery of the North Pacific Ocean and Bering Sea (Convention), signed at Ottawa, Ontario, on March 2, 1953, as amended by a Protocol Amending the Convention (signed at Washington, DC, on March 29, 1979).

As provided by the Northern Pacific Halibut Act of 1982 (Halibut Act) at 16 U.S.C. 773b, the Secretary of State, with the concurrence of the Secretary of Commerce, may accept or reject, on behalf of the United States, regulations recommended by the IPHC in accordance with the Convention (Halibut Act, Sections 773-773k). The Secretary of State, with the concurrence of the Secretary of Commerce, accepted the 2017 IPHC regulations as provided by the Halibut Act at 16 U.S.C. 773-773k.

The Halibut Act provides the Secretary of Commerce with the authority and general responsibility to carry out the requirements of the Convention and the Halibut Act. The Regional Fishery Management Councils may develop, and the Secretary of Commerce may implement, regulations governing harvesting privileges among U.S. fishermen in U.S. waters that are in addition to, and not in conflict with, approved IPHC regulations. The NPFMC has exercised this authority most notably in developing halibut management programs for three fisheries that harvest halibut in Alaska: The subsistence, sport, and commercial fisheries. The PFMC has exercised this authority by developing a catch sharing plan governing the allocation of halibut and management of sport fisheries on the U.S. West Coast.

Subsistence and sport halibut fishery regulations for Alaska are codified at 50 CFR part 300. Commercial halibut fisheries in Alaska are subject to the Individual Fishing Quota (IFQ) Program and Community Development Quota (CDQ) Program (50 CFR part 679) regulations, and the area-specific catch sharing plans.

The IPHC apportions catch limits for the Pacific halibut fishery among regulatory areas (Figure 1): Area 2A (Oregon, Washington, and California), Area 2B (British Columbia), Area 2C (Southeast Alaska), Area 3A (Central Gulf of Alaska), Area 3B (Western Gulf of Alaska), and Area 4 (subdivided into 5 areas, 4A through 4E, in the Bering Sea and Aleutian Islands of Western Alaska).

The NPFMC implemented a catch sharing plan (CSP) among commercial IFQ and CDQ halibut fisheries in IPHC Regulatory Areas 4C, 4D, and 4E (Area 4, Western Alaska) through rulemaking, and the Secretary of Commerce approved the plan on March 20, 1996 (61 FR 11337). The Area 4 CSP regulations were codified at 50 CFR 300.65, and were amended on March 17, 1998 (63 FR 13000). New annual regulations pertaining to the Area 4 CSP also may be implemented through IPHC action, subject to acceptance by the Secretary of State.

The NPFMC recommended and NMFS implemented through rulemaking a CSP for guided sport (charter) and commercial IFQ halibut fisheries in IPHC Regulatory Area 2C and Area 3A on January 13, 2014 (78 FR 75844, December 12, 2013). The Area 2C and 3A CSP regulations are codified at 50 CFR 300.65. The CSP defines an annual process for allocating halibut between the commercial and charter fisheries so that each sector's allocation varies in proportion to halibut abundance, specifies a public process for setting annual management measures, and authorizes limited annual leases of commercial IFQ for use in the charter fishery as guided angler fish (GAF).

The IPHC held its annual meeting in Victoria, British Columbia, Canada, January 23-27, 2017, and recommended a number of changes to the previous IPHC regulations (81 FR 14000, March 16, 2016). The Secretary of State accepted the annual management measures, including the following changes to the previous IPHC regulations for 2017:

1. New commercial halibut fishery opening and closing dates in Section 8;

2. New halibut catch limits in all regulatory areas in Section 11;

3. New requirement that commercial halibut be landed and weighed with the head attached in Section 13;

4. Revised regulations pertaining to fishing in multiple regulatory areas in Section 18; and

5. New management measures for Area 2C and Area 3A guided sport fisheries in Section 28, and in Figures 3 and 4.

Pursuant to regulations at 50 CFR 300.62, the 2017 IPHC annual management measures are published in the Federal Register to provide notice of their immediate regulatory effectiveness and to inform persons subject to the regulations of their restrictions and requirements. Because NMFS publishes the regulations applicable to the entire Convention area, these regulations include some provisions relating to and affecting Canadian fishing and fisheries. NMFS may implement more restrictive regulations for the fishery for halibut or components of it; therefore, anglers are advised to check the current Federal and IPHC regulations prior to fishing.

Catch Limits

The IPHC recommended to the governments of Canada and the United States catch limits for 2017 totaling 31,400,000 lb (14,242.80 mt). The IPHC recommended area-specific catch limits for 2017 that were higher than 2016 in most of its management areas except Areas 4A and 4B, where catch limits remained at the same level as in 2016. A description of the process the IPHC used to set these catch limits follows.

In 2016, the IPHC conducted its annual stock assessment using a range of updated data sources as described in detail in Chapter 4 of the 2016 IPHC Report of Assessment and Research Activities (2016 RARA; available at www.iphc.int). The IPHC used an “ensemble” of four equally weighted models, comprised of two long time-series models, and two short time-series models that use data series either divided by geographical region (IPHC Regulatory Area) or aggregated into coastwide summaries, to evaluate the Pacific halibut stock. These models incorporate data from the 2016 IPHC survey, the most recent NMFS trawl survey, weight-at-age estimates by region, and age distribution information for bycatch, sport, and sublegal discard removals. As has been the case since 2012, the results of the ensemble models are integrated, and incorporate uncertainty in natural mortality rates, environmental effects on recruitment, and in other model parameters.

The results at the end of 2016 indicate that the Pacific halibut stock declined continuously from the late 1990s to around 2010, as a result of decreasing size at a given age (size-at-age), as well as somewhat weaker recruitment strengths than those observed during the 1980s. The biomass of spawning females is estimated to have stabilized near 200,000,000 lb (90,718 mt) in 2010, and since then the stock is estimated to have been increasing gradually. Results of the 2016 assessment show a slight decrease from the 2015 assessment due to additional data from 2016 and updated recruitment estimates. Overall, the ensemble models predict that the stock would decrease gradually between 2018 and 2020 if total removals are maintained around 40,000,000 lb (18,144 mt).

The IPHC does not currently have an explicit target for the allowable level of total removals, also called coastwide fishing intensity; thus, it is uncertain if current levels of fishing intensity are consistent with the objectives of the IPHC's harvest policy. The IPHC harvest decision table (Table 4 in Chapter 4.2 of the 2016 RARA) provides a comparison of the relative risk of a decrease in stock abundance, status, or fishery metrics, for a range of alternative harvest levels for 2017. The IPHC adopted catch limits for 2017 totaling 31,400,000 lb (14,243.80 mt) coastwide. If these catch limits are fully harvested in 2017, and other sources of removals from bycatch, personal use, sport, subsistence, and wastage in the commercial fishery in 2017 are similar to those observed in 2016, then the total removals would be approximately 43,300,000 lb (19,640 mt) in 2017. At 43,300,000 lb of total removals from all sources, the IPHC estimates that the spawning stock biomass will decrease over the period from 2018 to 2020 relative to 2017. Specifically, the IPHC estimates that there is a 71 percent probability that the spawning stock biomass will decrease in 2018 relative to 2017. However, the IPHC estimates that there is only a 10 percent probability that the spawning stock biomass will decrease by more than 5 percent relative to 2017. After considering this information, the IPHC determined that the 2017 catch limits recommendations are consistent with its conservation objectives for the halibut stock and its management objectives for the halibut fisheries.

The IPHC recommended higher catch limits in 2017 than 2016 for Areas 2A, 2B, and 2C. Fishery-independent survey weight per unit effort (WPUE) and number of fish per unit effort (NPUE) generally indicate a stable and upward trend in these areas. An expanded survey with additional sampling locations has been approved in Area 2A for 2017. Both survey and fishery indices indicate rebuilding of the stock throughout Areas 2B and 2C, with the highest coastwide survey WPUE in Area 2C.

The IPHC recommended increases to the catch limits for Areas 3A and 3B compared to 2016. While survey and fishery WPUEs increased in Area 3A, the survey NPUE decreased in 2016. Based on the increase in WPUEs and decrease in survey NPUE, the IPHC adopted only a small precautionary increase to the catch limit for Area 3A to provide some additional harvest opportunities for the Area 3A commercial and charter sectors. Area 3B has experienced two years of increases in both the fishery and survey WPUE, with a substantial increase in survey WPUE and NPUE in 2016. These results supported an increased catch limit for 2017.

The IPHC recommended catch limits for Areas 4A and 4B that are the same as the 2016 limits. The IPHC recommended no change in the catch limit amounts in these areas because although the survey results show signs of stability, survey WPUE is still low relative to historical estimates; therefore, a more precautionary approach to management is appropriate.

The IPHC recommended a slight increase in the catch limit for Areas 4CDE compared to 2016. The IPHC noted that for social, cultural, and economic reasons, an even larger increase is warranted, but the survey indices do not support a larger increase. However, ongoing efforts to reduce halibut bycatch in the commercial groundfish trawl fisheries may provide for additional harvest opportunities in the Area 4CDE directed fishery in the future.

The IPHC also considered the Catch Sharing Plan for Area 4CDE developed by the NPFMC in its catch limit recommendation. When the Area 4CDE catch limit is greater than 1,657,600 lb (751.87 mt), a direct allocation of 80,000 lb (36.29 mt) is made to Area 4E to provide CDQ fishermen in that area with additional harvesting opportunity. After this 80,000 lb allocation is deducted from the catch limit, the remainder is divided among Areas 4C, 4D, and 4E according to the percentages specified in the CSP. Those percentages are 46.43 percent each to 4C and 4D, and 7.14 percent to 4E. The IPHC recommended a catch limit for Area 4CDE of 1,700,000 lb (771.11 mt) for 2017 to provide benefits from increased harvest opportunities in Area 4E.

Table 1—Percent Change in Catch Limits From 2016 to 2017 by IPHC Regulatory Area
Regulatory area | 2017 IPHC recommended catch limit (lb) | 2016 Catch limit (lb) | Change from 2016 (percent)
2A ¹ | 1,330,000 | 1,140,000 | + 16.7
2B ² | 7,450,000 | 7,300,000 | + 2.1
2C ³ | 5,250,000 | 4,950,000 | + 6.1
3A ³ | 10,000,000 | 9,600,000 | + 4.2
3B | 3,140,000 | 2,710,000 | + 15.9
4A | 1,390,000 | 1,390,000 | + 0.0
4B | 1,140,000 | 1,140,000 | + 0.0
4CDE | 1,700,000 | 1,660,000 | + 2.4
Coastwide | 31,400,000 | 29,890,000 | + 5.1
¹ Area 2A catch limit includes sport, commercial, and tribal catch limits.
² Area 2B catch limit includes sport and commercial catch limits.
³ Shown is the combined commercial and charter allocation under the Area 2C and Area 3A CSP. This value includes allocations to the charter sector and charter wastage, and an amount for commercial landings and wastage. The commercial catch limits after deducting wastage are 4,212,000 lb in Area 2C and 7,739,000 lb in Area 3A.

Commercial Halibut Fishery Opening and Closing Dates

The IPHC considers advice from the IPHC's two advisory boards when selecting opening and closing dates for the halibut fishery. The opening date for the tribal commercial fishery in Area 2A and for the commercial halibut fisheries in Areas 2B through 4E is March 11, 2017. The Conference Board had requested an earlier date (March 4) to coincide with favorable tides and to minimize potential interactions with sperm whales; however, the Processor Advisory Group noted that a later opening date facilitates halibut marketing. The March 11 date takes into account a number of factors, including the timing of halibut migration and spawning, and having a Saturday season opening to facilitate marketing. In addition, the majority of the fishing effort on the opening date has historically been for sablefish, whose opening date is tied to the halibut season dates, and not for halibut. The closing date for the halibut fisheries is November 7, 2017. This date takes into account the anticipated time required to fully harvest the commercial halibut catch limits, seasonal holidays, and adequate time for IPHC staff to review the complete record of 2017 commercial catch data for use in the 2017 stock assessment process.

In the Area 2A non-treaty directed commercial fishery the IPHC recommended seven 10-hour fishing periods. Each fishing period shall begin at 0800 hours and terminate at 1800 hours local time on June 28, July 12, July 26, August 9, August 23, September 6, and September 20, 2017, unless the IPHC specifies otherwise. These 10-hour openings will occur until the quota is taken and the fishery is closed.

Area 2A Catch Sharing Plan

The NMFS West Coast Region published a proposed rule for changes to the Pacific Halibut Catch Sharing Plan for Area 2A off Washington, Oregon, and California on February 23, 2017 (82 FR 11419), with public comments accepted through March 15, 2017. A separate final rule will be published to approve changes to the Area 2A CSP and to implement the portions of the CSP and management measures that are not implemented through the IPHC annual management measures that are published in this final rule. These measures include the sport fishery allocations and management measures for Area 2A. Once published, the final rule implementing the Area 2A CSP will be available on the NOAA Fisheries West Coast Region's Web site at http://www.westcoast.fisheries.noaa.gov/fisheries/management/pacific_halibut_management.html, and under FDMS Docket Number NOAA-NMFS-2016-0144 at www.regulations.gov.

Catch Sharing Plan for Area 2C and Area 3A

In 2014, NMFS implemented a CSP for Area 2C and Area 3A. The CSP defines an annual process for allocating halibut between the charter and commercial fisheries in Area 2C and Area 3A, and establishes allocations for each fishery. To allow flexibility for individual commercial and charter fishery participants, the CSP also authorizes annual transfers of commercial halibut IFQ as GAF to charter halibut permit holders for harvest in the charter fishery. Under the CSP, the IPHC recommends combined catch limits (CCLs) for the charter and commercial halibut fisheries in Area 2C and Area 3A. Each CCL includes estimates of discard mortality (wastage) for each fishery. The CSP was implemented to achieve the halibut fishery management goals of the NPFMC. More information is provided in the final rule implementing the CSP (78 FR 75844, December 12, 2013). Implementing regulations for the CSP are at 50 CFR 300.65. The Area 2C and Area 3A CSP allocation tables are located in Tables 1 through 4 of subpart E of 50 CFR part 300. The IPHC recommended a CCL of 5,250,000 lb (2,381.36 mt) for Area 2C. Following the CSP allocations in Tables 1 and 3 of subpart E of 50 CFR part 300, the charter fishery is allocated 915,000 lb (415.04 mt) of the CCL and the remainder of the CCL, 4,335,000 lb (1,966.32 mt), is allocated to the commercial fishery. Wastage in the amount of 123,000 lb (55.79 mt) was deducted from the commercial allocation to obtain the commercial catch limit of 4,212,000 lb (1,910.53 mt). The commercial allocation increased by about 291,000 lb (132.00 mt) or 7.2 percent, from the 2016 allocation of 4,044,000 lb (1,834.33 mt) (including wastage). The charter allocation for 2017 is about 9,000 lb (4.08 mt), or 1.0 percent greater than the charter sector allocation of 906,000 lb (410.95 mt) in 2016.

The IPHC recommended a CCL of 10,000,000 lb (4,535.92 mt) for Area 3A. Following the CSP allocations in Tables 2 and 4 of subpart E of 50 CFR part 300, the charter fishery is allocated 1,890,000 lb (857.29 mt) of the CCL and the remainder of the CCL, 8,110,000 lb (3,678.63 mt), is allocated to the commercial fishery. Wastage in the amount of 371,000 lb (168.28 mt) was deducted from the commercial allocation to obtain the commercial catch limit of 7,739,000 lb (3,510.35 mt). The commercial allocation increased by about 324,000 lb (146.96 mt) or 4.2 percent, from the 2016 allocation of 7,786,000 lb (3,531.67 mt) (including wastage). The charter allocation increased by about 76,000 lb (34.47 mt), or 4.2 percent, from the 2016 allocation of 1,814,000 lb (822.82 mt).

Charter Halibut Management Measures for Area 2C and Area 3A

Guided (charter) recreational halibut anglers are managed under different regulations than unguided recreational halibut anglers in Areas 2C and 3A in Alaska. According to Federal regulations at 50 CFR 300.61, a charter vessel angler means a person, paying or non-paying, receiving sport fishing guide services for halibut. Sport fishing guide services means assistance, for compensation or with the intent to receive compensation, to a person who is sport fishing, to take or attempt to take halibut by accompanying or physically directing the sport fisherman in sport fishing activities during any part of a charter vessel fishing trip. A charter vessel fishing trip is the time period between the first deployment of fishing gear into the water from a charter vessel by a charter vessel angler and the offloading of one or more charter vessel anglers or any halibut from that vessel. The charter fishery regulations described below apply only to charter vessel anglers receiving sport fishing guide services during a charter vessel fishing trip for halibut in Area 2C or Area 3A. These regulations do not apply to unguided recreational anglers in any regulatory area in Alaska, or guided anglers in areas other than Areas 2C and 3A.

The NPFMC formed the Charter Halibut Management Committee to provide it with recommendations for annual management measures intended to limit charter harvest to the charter catch limit while minimizing negative economic impacts to charter fishery participants in times of low halibut abundance. The committee is composed of representatives from the charter fishing industry in Areas 2C and 3A. The committee considered previously analyzed alternatives and suggested new alternative measures to be analyzed in October 2016. After reviewing an analysis of the effects of the alternative measures on estimated charter removals, the committee made recommendations for preferred management measures to the NPFMC for 2017. The NPFMC considered the recommendations of the committee, its industry advisory body, and public testimony to develop its recommendation to the IPHC, and the IPHC took action consistent with the NPFMC's recommendations. The NPFMC has used this process to select and recommend annual management measures to the IPHC since 2012.

The IPHC recognizes the role of the NPFMC to develop policy and regulations that allocate the Pacific halibut resource among fishermen in and off Alaska, and that NMFS has developed numerous regulations to support the NPFMC's goals of limiting charter harvests. The IPHC concluded that new management measures were necessary for 2017 to limit the Area 2C and Area 3A charter halibut fisheries to their charter catch limits under the CSP, to achieve the IPHC's overall conservation objective to limit total halibut harvests to established catch limits, and to meet the NPFMC's allocation objectives for these areas. The IPHC determined that limiting charter harvests by implementing the management measures discussed below would meet these objectives.

Management Measures for Charter Vessel Fishing in Area 2C

The preliminary estimate of charter removals in Area 2C was below the 2016 charter allocation by about 62,000 lb (28.12 mt) or 6.9 percent, indicating that the 2016 management measures were appropriate and effective at limiting harvest by charter vessel anglers to the charter allocation. The analysis of alternative management measures indicated that both effort and harvest were projected to increase in 2017 under status quo regulations; however, the 9,000 lb (4.08 mt) increase in the catch limit allows management measures to be relaxed slightly for 2017.

The preliminary estimate of charter wastage (release mortality) in 2016 represented about 6.5 percent of the directed harvest amount and has increased in recent years. Therefore, projected charter harvest for 2017 was increased by 7.0 percent to account for all charter removals in the selection of annual management measures for Area 2C.

Relaxation of management measures is possible, while managing total charter removals, including wastage, in Area 2C to the 2017 allocation of 915,000 lb (415.04 mt). This final rule amends the 2016 measures applicable to the charter vessel fishery in Area 2C to relax restrictions and allow additional harvest relative to 2016.

For 2017, the IPHC recommended the continuation of a one-fish daily bag limit with a reverse slot limit, as was in place in 2016, but increasing the lower size limit. The IPHC recommends a reverse slot limit that prohibits a person on board a charter vessel referred to in 50 CFR 300.65 and fishing in Area 2C from taking or possessing any halibut, with head on, that is greater than 44 inches (111.8 cm) and less than 80 inches (203.2 cm), as measured in a straight line, passing over the pectoral fin from the tip of the lower jaw with mouth closed, to the extreme end of the middle of the tail. The 2016 reverse slot limit prohibited retention by charter vessel anglers of halibut that were greater than 43 inches (109.2 cm) and less than 80 inches. The projected charter removal under the 2017 recommended reverse slot limit is 888,000 lb (402.79 mt), 27,000 lb (12.25 mt) below the charter allocation. The recommended reverse slot limit for 2017 will increase harvest opportunities for charter vessel anglers, while managing total charter removals to the charter allocation.

Management Measures for Charter Vessel Fishing in Area 3A

The preliminary estimate of charter removals in Area 3A in 2016 exceeded the charter allocation by 167,000 lb (75.75 mt), or 9.2 percent, primarily because charter vessel anglers caught and retained 7.1 percent more halibut and the average size of halibut retained was 3.5 percent heavier, on average, than predicted for the size and bag limits in place. In 2016, charter vessel anglers in Area 3A were limited to a two-fish daily bag limit with a maximum size limit on one fish. One effect of the maximum size limit was that the number of fish harvested per angler decreased in 2016 compared to 2015, but the average weight of harvested fish increased as many anglers opted to maximize the size of retained fish. The estimation error for average weight was factored into the analysis of potential management measures for 2017.

The preliminary estimate of charter wastage in 2016 represented 0.8 percent of the directed harvest amount, but the average from 2013 through 2016 was 1.3 percent. The projected charter harvest for 2017 was increased by 1.5 percent to account for total charter removals in the selection of appropriate annual management measures for Area 3A for 2017.

This final rule amends the 2016 management measures applicable to the charter halibut fishery in Area 3A. The NPFMC and IPHC considered 2016 information on charter removals and the projections of charter harvest for 2017. After considering 2016 harvest information, the NPFMC and IPHC determined that more restrictive management measures in Area 3A are necessary to limit charter removals, including wastage, to the 2017 allocation.

For 2017, the IPHC recommended continuing the following management measures for Area 3A from 2016: (1) A two-fish bag limit with a 28-inch (71.1 cm) size limit on one of the halibut; (2) a one-trip per day limit for the entire season; (3) a day-of-week closure; and (4) an annual limit, with a reporting requirement. In addition, the IPHC recommended closure of another day of the week to charter fishing for part of the season. The projected charter harvest for 2017 under this combination of recommended measures is 1,874,000 lb (850.03 mt), 16,000 lb (7.26 mt) below the charter allocation. Each of these management measures is described in more detail below.

Size Limit for Halibut Retained on a Charter Vessel in Area 3A

The 2017 charter halibut fishery in Area 3A will be managed under a two-fish daily bag limit in which one of the retained halibut may be of any size and one of the retained halibut must be 28 inches (71.1 cm) total length or less. This is the same maximum size limit as 2016. This daily bag and size limit will be combined with additional restrictions to limit charter halibut removals to the 2017 allocation.

Trip Limit for Charter Vessels Harvesting Halibut in Area 3A

As in 2016, for 2017, a charter halibut permit is only authorized for use to catch and retain halibut on one charter halibut fishing trip per day in Area 3A. Additionally, a charter vessel is only authorized for use to catch and retain halibut on one charter halibut fishing trip per day. If no halibut are retained during a charter vessel fishing trip, the charter halibut permit and vessel may be used to take an additional trip to catch and retain halibut that day.

For purposes of the trip limit in Area 3A in 2017, a charter vessel fishing trip will end when anglers or halibut are offloaded, or at the end of the calendar day, whichever occurs first. Charter operators are still able to conduct overnight trips and anglers may retain a bag limit of halibut on each calendar day, but operators are not allowed to begin another overnight trip until the day after the trip ends. GAF halibut are exempt from the trip limit; therefore, GAF could be used to harvest halibut on a second trip in a day, but only if exclusively GAF halibut were harvested on that trip.

Day-of-Week Closure in Area 3A

The NPFMC and the IPHC recommended continuing the day-of-week closure on Wednesdays for Area 3A in 2017. No retention of halibut by charter vessel anglers will be allowed in Area 3A on Wednesdays. To further reduce harvest, an additional day-of-week closure will be added for three Tuesdays in 2017: July 18, July 25, and August 1. Retention of only GAF halibut will be allowed on charter vessels on Wednesdays and the three closed Tuesdays; all other halibut that are caught while fishing on a charter vessel must be released. The addition of the three Tuesday closures is expected to reduce charter halibut harvest by 3.9 percent in Area 3A and reduce total charter harvest to below the charter catch limit.

Annual Limit of Four Fish for Charter Vessels Anglers in Area 3A

For 2017, charter vessel anglers will continue to be limited to harvesting no more than four halibut on charter vessel fishing trips in Area 3A during a calendar year. This limit applies only to halibut caught and retained during charter vessel fishing trips in Area 3A. Halibut harvested while unguided fishing, fishing in other IPHC regulatory areas, or harvested as GAF will not accrue toward the annual limit.

To enforce the annual limit in 2017, each charter vessel angler who is required to have a State of Alaska sport fishing license and who harvests halibut will be required to record those halibut on the back of the fishing license. For those anglers who are not required to have a sport fishing license (e.g., youth and senior anglers), a nontransferable Sport Harvest Record Card must be obtained from an Alaska Department of Fish and Game (ADF&G) office, the ADF&G Web site, or a fishing license vendor, on which to record halibut harvested aboard a charter vessel. Immediately upon retention of a halibut for which an annual limit has been established, the charter vessel angler must record the date, location (Area 3A), and species of the catch (halibut), in ink, on the harvest record card or back of the sport fishing license.

If the original sport fishing license or harvest record is lost, a duplicate or additional sport fishing license or harvest record card must be obtained and completed for all halibut previously retained during that year that were subject to the annual limit.

Only halibut caught during a charter vessel fishing trip in Area 3A accrue toward the 4-fish annual limit and must be recorded on the license or harvest record card. Halibut that are harvested while charter fishing in regulatory areas other than Area 3A will not accrue toward the annual limit and are not subject to the reporting requirement. Likewise, halibut harvested while sport fishing without a guide in Area 3A, harvested while subsistence fishing, or harvested as GAF do not accrue toward the annual limit and should not be recorded on the license or harvest record. Finally, halibut that are caught during a charter vessel fishing trip that bear IPHC external tags are exempt from the annual limit and reporting requirements (see Section 21 of the IPHC regulations).

Retention of Incidentally Caught Halibut in Sablefish Pots in Alaska

On December 28, 2016, NMFS published a final rule to authorize longline pot gear for the IFQ sablefish fishery in the Gulf of Alaska (81 FR 95435). The Gulf of Alaska sablefish fishery takes place in a portion of IPHC Regulatory Area 2C (not including the inside waters), and Regulatory Areas 3A, 3B, and that portion of 4A in the Gulf of Alaska west of Area 3B and east of 170°00' W. longitude. The NMFS final rule also requires retention of halibut caught incidentally in longline pot gear subject to current retention requirements for the halibut IFQ Program (i.e., only if the halibut are of legal size and a person(s) on the vessel holds sufficient halibut IFQ). This recommendation is intended to avoid discard mortality of legal-size halibut caught incidentally in longline pots in the sablefish IFQ fishery, similar to current regulations that authorize sablefish and halibut IFQ holders using hook-and-line gear to retain legal-size halibut caught incidentally during the sablefish IFQ fishery.

At its 2016 annual meeting, the IPHC approved longline pot gear, as defined by NMFS, as legal gear for the commercial halibut fishery in Alaska when NMFS regulations permit the use of this gear in the IFQ sablefish fishery. NMFS regulations will authorize the use of longline pot gear in the IFQ sablefish fishery on March 11, 2017 (81 FR 95435, December 28, 2016; notice of delayed effective date 82 FR 9690, February 8, 2017). Therefore, beginning in 2017, vessels using longline pot gear to harvest IFQ sablefish in the Gulf of Alaska will be required to retain halibut consistent with IPHC regulations and NMFS regulations specified in the final rule to authorize longline pot gear (81 FR 95435).

Other Regulatory Amendments

The IPHC approved two additional amendments to the 2017 annual management measures.

The first amendment approved by the IPHC requires that beginning in 2017, all commercial Pacific halibut must be landed and weighed with their heads attached (head-on) for data reporting purposes. Section 13 of IPHC regulations previously had two minimum size limits: 32 inches (81.3 cm) for halibut taken or possessed with the head on, and 24 inches (61.0 cm) for halibut taken or possessed with the head removed. This regulatory amendment will require that halibut be landed head-on and those head-on halibut will be subject to a 32-inch minimum size limit. The only exception is for vessels that freeze halibut at sea. Those vessels may deliver their frozen, head-off halibut shoreside with a 24-inch minimum size limit. The IPHC regulations already required that in Area 2A all commercial halibut be landed with the head attached.

This regulatory amendment is intended to improve the estimates of the weight of landed halibut. The IPHC has assumed that the weight of a removed head as a percentage of the whole body is 10 percent. However, results from recent studies (pp. 77-91 of the 2015 RARA and Chapter 2.8 of the 2016 RARA; available at www.iphc.int) indicate that the average weight of removed heads averages 12 percent of the whole body weight, and ranges from 9 to 18 percent of the whole body weight. The weight of removed heads relative to the whole body weight varies due to differences in the angle at which the head is cut off the body and the size of the fish.

Landing records show that, coastwide, 67 to 71 percent of catch by weight is reported head-off, so the potential effect of head proportions that differ from assumed values is likely to have a significant impact on the biomass of catch that is used in the IPHC's annual stock assessment. For example, in recent years, the IPHC may have underestimated the coastwide landings by 2 to 3 percent, and estimates in some regulatory areas could be more inaccurate than others depending on the type of processing used and the size of halibut. In order to improve the accuracy of estimated landings, the IPHC approved the requirement for all commercially landed Pacific halibut to be landed and weighed with the head on, except for those halibut processed and frozen at sea.

The second regulatory amendment approved by the IPHC revises Section 18 of the annual management measures for consistency with NMFS' halibut fishery regulations published at 50 CFR 679.7(f)(4), regarding fishing in multiple regulatory areas. Section 18 of the annual management measures and 50 CFR 679.7(f)(4) address the circumstances under which a person may lawfully possess at the same time, on board a vessel, halibut that were caught in more than one IPHC Regulatory Area off Alaska. However, differences in regulatory text have caused confusion for fishery participants. To reduce confusion, the IPHC regulations will allow possession at the same time on board a vessel halibut that were caught in more than one IPHC Regulatory Area off Alaska only if such possession is authorized by Federal regulations at 50 CFR 679.7(f)(4), and if the operator of the vessel identifies the halibut by regulatory area by separating halibut from different areas in the hold, tagging halibut, or by other means. The NMFS regulation specifies that a person may not retain IFQ or CDQ halibut on a vessel in excess of the total amount of unharvested IFQ or CDQ that is currently held by all persons on the vessel for the regulatory area in which the vessel is deploying fixed gear. This limit on halibut possession does not apply if the vessel has an observer aboard under the requirements of subpart E of 50 CFR part 679 and the vessel maintains an applicable daily fishing log as specified in IPHC regulations and 50 CFR 679.5. This change to the 2017 IPHC regulations does not change the requirements for vessels fishing in multiple areas, it simply clarifies the status quo regulations applicable to vessels fishing off Alaska.

Annual Halibut Management Measures

The following annual management measures for the 2017 Pacific halibut fishery are those recommended by the IPHC and accepted by the Secretary of State, with the concurrence of the Secretary of Commerce.

1. Short Title

These Regulations may be cited as the Pacific Halibut Fishery Regulations.

2. Application

(1) These Regulations apply to persons and vessels fishing for halibut in, or possessing halibut taken from, the maritime area as defined in Section 3.

(2) Sections 3 to 6 apply generally to all halibut fishing.

(3) Sections 7 to 20 apply to commercial fishing for halibut.

(4) Section 21 applies to tagged halibut caught by any vessel.

(5) Section 22 applies to the United States treaty Indian fishery in Subarea 2A-1.

(6) Section 23 applies to customary and traditional fishing in Alaska.

(7) Section 24 applies to Aboriginal groups fishing for food, social and ceremonial purposes in British Columbia.

(8) Sections 25 to 28 apply to sport fishing for halibut.

(9) These Regulations do not apply to fishing operations authorized or conducted by the Commission for research purposes.

3. Definitions

(1) In these Regulations,

(a) “authorized officer” means any State, Federal, or Provincial officer authorized to enforce these Regulations including, but not limited to, the National Marine Fisheries Service (NMFS), Canada's Department of Fisheries and Oceans (DFO), Alaska Wildlife Troopers (AWT), United States Coast Guard (USCG), Washington Department of Fish and Wildlife (WDFW), the Oregon State Police (OSP), and California Department of Fish and Wildlife (CDFW);

(b) “authorized clearance personnel” means an authorized officer of the United States, a representative of the Commission, or a designated fish processor;

(c) “charter vessel” outside of Alaska waters means a vessel used for hire in sport fishing for halibut, but not including a vessel without a hired operator, and in Alaska waters means a vessel used while providing or receiving sport fishing guide services for halibut;

(d) “commercial fishing” means fishing, the resulting catch of which is sold or bartered; or is intended to be sold or bartered, other than (i) sport fishing, (ii) treaty Indian ceremonial and subsistence fishing as referred to in section 22, (iii) customary and traditional fishing as referred to in section 23 and defined by and regulated pursuant to NMFS regulations published at 50 CFR part 300, and (iv) Aboriginal groups fishing in British Columbia as referred to in section 24;

(e) “Commission” means the International Pacific Halibut Commission;

(f) “daily bag limit” means the maximum number of halibut a person may take in any calendar day from Convention waters;

(g) “fishing” means the taking, harvesting, or catching of fish, or any activity that can reasonably be expected to result in the taking, harvesting, or catching of fish, including specifically the deployment of any amount or component part of gear anywhere in the maritime area;

(h) “fishing period limit” means the maximum amount of halibut that may be retained and landed by a vessel during one fishing period;

(i) “land” or “offload” with respect to halibut, means the removal of halibut from the catching vessel;

(j) “license” means a halibut fishing license issued by the Commission pursuant to section 4;

(k) “maritime area”, in respect of the fisheries jurisdiction of a Contracting Party, includes without distinction areas within and seaward of the territorial sea and internal waters of that Party;

(l) “net weight” of a halibut means the weight of halibut that is without gills and entrails, head-off, washed, and without ice and slime. If a halibut is weighed with the head on or with ice and slime, the required conversion factors for calculating net weight are a 2 percent deduction for ice and slime and a 10 percent deduction for the head;

(m) “operator”, with respect to any vessel, means the owner and/or the master or other individual on board and in charge of that vessel;

(n) “overall length” of a vessel means the horizontal distance, rounded to the nearest foot, between the foremost part of the stem and the aftermost part of the stern (excluding bowsprits, rudders, outboard motor brackets, and similar fittings or attachments);

(o) “person” includes an individual, corporation, firm, or association;

(p) “regulatory area” means an area referred to in section 6;

(q) “setline gear” means one or more stationary, buoyed, and anchored lines with hooks attached;

(r) “sport fishing” means all fishing other than (i) commercial fishing, (ii) treaty Indian ceremonial and subsistence fishing as referred to in section 22, (iii) customary and traditional fishing as referred to in section 23 and defined in and regulated pursuant to NMFS regulations published in 50 CFR part 300, and (iv) Aboriginal groups fishing in British Columbia as referred to in section 24;

(s) “tender” means any vessel that buys or obtains fish directly from a catching vessel and transports it to a port of landing or fish processor;

(t) “VMS transmitter” means a NMFS-approved vessel monitoring system transmitter that automatically determines a vessel's position and transmits it to a NMFS-approved communications service provider.¹

¹ Call NOAA Enforcement Division, Alaska Region, at 907-586-7225 between the hours of 0800 and 1600 local time for a list of NMFS-approved VMS transmitters and communications service providers.

(2) In these Regulations, all bearings are true and all positions are determined by the most recent charts issued by the United States National Ocean Service or the Canadian Hydrographic Service.

4. Licensing Vessels for Area 2A

(1) No person shall fish for halibut from a vessel, nor possess halibut on board a vessel, used either for commercial fishing or as a charter vessel in Area 2A, unless the Commission has issued a license valid for fishing in Area 2A in respect of that vessel.

(2) A license issued for a vessel operating in Area 2A shall be valid only for operating either as a charter vessel or a commercial vessel, but not both.

(3) A vessel with a valid Area 2A commercial license cannot be used to sport fish for Pacific halibut in Area 2A.

(4) A license issued for a vessel operating in the commercial fishery in Area 2A shall be valid for one of the following:

(a) The directed commercial fishery during the fishing periods specified in paragraph (2) of section 8;

(b) the incidental catch fishery during the sablefish fishery specified in paragraph (3) of section 8; or

(c) the incidental catch fishery during the salmon troll fishery specified in paragraph (4) of section 8.

(5) No person may apply for or be issued a license for a vessel operating in the incidental catch fishery during the salmon troll fishery in paragraph (4)(c), if that vessel was previously issued a license for either the directed commercial fishery in paragraph (4)(a) or the incidental catch fishery during the sablefish fishery in paragraph (4)(b).

(6) A license issued in respect to a vessel referred to in paragraph (1) of this section must be carried on board that vessel at all times and the vessel operator shall permit its inspection by any authorized officer.

(7) The Commission shall issue a license in respect to a vessel, without fee, from its office in Seattle, Washington, upon receipt of a completed, written, and signed “Application for Vessel License for the Halibut Fishery” form.

(8) A vessel operating in the directed commercial fishery in Area 2A must have its “Application for Vessel License for the Halibut Fishery” form postmarked no later than 11:59 p.m. on 30 April, or on the first weekday in May if 30 April is a Saturday or Sunday.

(9) A vessel operating in the incidental catch fishery during the sablefish fishery in Area 2A must have its “Application for Vessel License for the Halibut Fishery” form postmarked no later than 11:59 p.m. on 15 March, or the next weekday in March if 15 March is a Saturday or Sunday.

(10) A vessel operating in the incidental catch fishery during the salmon troll fishery in Area 2A must have its “Application for Vessel License for the Halibut Fishery” form postmarked no later than 11:59 p.m. on 15 March, or the next weekday in March if 15 March is a Saturday or Sunday.

(11) Application forms may be obtained from any authorized officer or from the Commission.

(12) Information on “Application for Vessel License for the Halibut Fishery” form must be accurate.

(13) The “Application for Vessel License for the Halibut Fishery” form shall be completed and signed by the vessel owner.

(14) Licenses issued under this section shall be valid only during the year in which they are issued.

(15) A new license is required for a vessel that is sold, transferred, renamed, or the documentation is changed.

(16) The license required under this section is in addition to any license, however designated, that is required under the laws of the United States or any of its States.

(17) The United States may suspend, revoke, or modify any license issued under this section under policies and procedures in Title 15, CFR part 904.

5. In-Season Actions

(1) The Commission is authorized to establish or modify regulations during the season after determining that such action:

(a) Will not result in exceeding the catch limit established preseason for each regulatory area;

(b) is consistent with the Convention between Canada and the United States of America for the Preservation of the Halibut Fishery of the Northern Pacific Ocean and Bering Sea, and applicable domestic law of either Canada or the United States; and

(c) is consistent, to the maximum extent practicable, with any domestic catch sharing plans or other domestic allocation programs developed by the United States or Canadian governments.

(2) In-season actions may include, but are not limited to, establishment or modification of the following:

(a) Closed areas;

(b) fishing periods;

(c) fishing period limits;

(d) gear restrictions;

(e) recreational bag limits;

(f) size limits; or

(g) vessel clearances.

(3) In-season changes will be effective at the time and date specified by the Commission.

(4) The Commission will announce in-season actions under this section by providing notice to major halibut processors; Federal, State, United States treaty Indian, and Provincial fishery officials; and the media.

6. Regulatory Areas

The following areas shall be regulatory areas (see Figure 1) for the purposes of the Convention:

(1) Area 2A includes all waters off the states of California, Oregon, and Washington;

(2) Area 2B includes all waters off British Columbia;

(3) Area 2C includes all waters off Alaska that are east of a line running 340° true from Cape Spencer Light (58°11′56″ N. latitude, 136°38′26″ W. longitude) and south and east of a line running 205° true from said light;

(4) Area 3A includes all waters between Area 2C and a line extending from the most northerly point on Cape Aklek (57°41′15″ N. latitude, 155°35′00″ W. longitude) to Cape Ikolik (57°17′17″ N. latitude, 154°47′18″ W. longitude), then along the Kodiak Island coastline to Cape Trinity (56°44′50″ N. latitude, 154°08′44″ W. longitude), then 140° true;

(5) Area 3B includes all waters between Area 3A and a line extending 150° true from Cape Lutke (54°29′00″ N. latitude, 164°20′00″ W. longitude) and south of 54°49′00″ N. latitude in Isanotski Strait;

(6) Area 4A includes all waters in the Gulf of Alaska west of Area 3B and in the Bering Sea west of the closed area defined in section 10 that are east of 172°00′00″ W. longitude and south of 56°20′00″ N. latitude;

(7) Area 4B includes all waters in the Bering Sea and the Gulf of Alaska west of Area 4A and south of 56°20′00″ N. latitude;

(8) Area 4C includes all waters in the Bering Sea north of Area 4A and north of the closed area defined in section 10 which are east of 171°00′00″ W. longitude, south of 58°00′00″ N. latitude, and west of 168°00′00″ W. longitude;

(9) Area 4D includes all waters in the Bering Sea north of Areas 4A and 4B, north and west of Area 4C, and west of 168°00′00″ W. longitude; and

(10) Area 4E includes all waters in the Bering Sea north and east of the closed area defined in section 10, east of 168°00′00″ W. longitude, and south of 65°34′00″ N. latitude.

7. Fishing in Regulatory Area 4E and 4D

(1) Section 7 applies only to any person fishing, or vessel that is used to fish for, Area 4E Community Development Quota (CDQ) or Area 4D CDQ halibut, provided that the total annual halibut catch of that person or vessel is landed at a port within Area 4E or 4D.

(2) A person may retain halibut taken with setline gear in Area 4E CDQ and 4D CDQ fishery that are smaller than the size limit specified in section 13, provided that no person may sell or barter such halibut.

(3) The manager of a CDQ organization that authorizes persons to harvest halibut in the Area 4E or 4D CDQ fisheries must report to the Commission the total number and weight of undersized halibut taken and retained by such persons pursuant to section 7, paragraph (2). This report, which shall include data and methodology used to collect the data, must be received by the Commission prior to 1 November of the year in which such halibut were harvested.

8. Fishing Periods

(1) The fishing periods for each regulatory area apply where the catch limits specified in section 11 have not been taken.

(2) Each fishing period in the Area 2A directed commercial fishery ² shall begin at 0800 hours and terminate at 1800 hours local time on 28 June, 12 July, 26 July, 9 August, 23 August, 6 September, and 20 September, unless the Commission specifies otherwise.

² The directed fishery is restricted to waters that are south of Point Chehalis, Washington (46°53.30′ N. latitude) under regulations promulgated by NMFS and published in the Federal Register.

(3) Notwithstanding paragraph (7) of section 11, an incidental catch fishery ³ is authorized during the sablefish seasons in Area 2A in accordance with regulations promulgated by NMFS. This fishery will occur between 1200 hours local time on 11 March and 1200 hours local time on 7 November.

³ The incidental fishery during the directed, fixed gear sablefish season is restricted to waters that are north of Point Chehalis, Washington (46°53.30′ N. latitude) under regulations promulgated by NMFS at 50 CFR 300.63. Landing restrictions for halibut retention in the fixed gear sablefish fishery can be found at 50 CFR 660.231.

(4) Notwithstanding paragraph (2), and paragraph (7) of section 11, an incidental catch fishery is authorized during salmon troll seasons in Area 2A in accordance with regulations promulgated by NMFS. This fishery will occur between 1200 hours local time on 11 March and 1200 hours local time on 7 November.

(5) The fishing period in Areas 2B, 2C, 3A, 3B, 4A, 4B, 4C, 4D, and 4E shall begin at 1200 hours local time on 11 March and terminate at 1200 hours local time on 7 November, unless the Commission specifies otherwise.

(6) All commercial fishing for halibut in Areas 2A, 2B, 2C, 3A, 3B, 4A, 4B, 4C, 4D, and 4E shall cease at 1200 hours local time on 7 November.

9. Closed Periods

(1) No person shall engage in fishing for halibut in any regulatory area other than during the fishing periods set out in section 8 in respect of that area.

(2) No person shall land or otherwise retain halibut caught outside a fishing period applicable to the regulatory area where the halibut was taken.

(3) Subject to paragraphs (7), (8), (9), and (10) of section 19, these Regulations do not prohibit fishing for any species of fish other than halibut during the closed periods.

(4) Notwithstanding paragraph (3), no person shall have halibut in his/her possession while fishing for any other species of fish during the closed periods.

(5) No vessel shall retrieve any halibut fishing gear during a closed period if the vessel has any halibut on board.

(6) A vessel that has no halibut on board may retrieve any halibut fishing gear during the closed period after the operator notifies an authorized officer or representative of the Commission prior to that retrieval.

(7) After retrieval of halibut gear in accordance with paragraph (6), the vessel shall submit to a hold inspection at the discretion of the authorized officer or representative of the Commission.

(8) No person shall retain any halibut caught on gear retrieved in accordance with paragraph (6).

(9) No person shall possess halibut on board a vessel in a regulatory area during a closed period unless that vessel is in continuous transit to or within a port in which that halibut may be lawfully sold.

10. Closed Area

All waters in the Bering Sea north of 55°00′00″ N. latitude in Isanotski Strait that are enclosed by a line from Cape Sarichef Light (54°36′00″ N. latitude, 164°55′42″ W. longitude) to a point at 56°20′00″ N. latitude, 168°30′00″ W. longitude; thence to a point at 58°21′25″ N. latitude, 163°00′00″ W. longitude; thence to Strogonof Point (56°53′18″ N. latitude, 158°50′37″ W. longitude); and then along the northern coasts of the Alaska Peninsula and Unimak Island to the point of origin at Cape Sarichef Light are closed to halibut fishing and no person shall fish for halibut therein or have halibut in his/her possession while in those waters, except in the course of a continuous transit across those waters. All waters in Isanotski Strait between 55°00′00″ N. latitude and 54°49′00″ N. latitude are closed to halibut fishing.

11. Commercial Catch Limits

(1) The total allowable commercial catch of halibut to be taken during the commercial halibut fishing periods specified in section 8 shall be limited to the net weights expressed in pounds or metric tons shown in the following table:

IPHC regulatory area | Commercial catch limit—net weight: Pounds | Commercial catch limit—net weight: Metric tons
2A: Directed commercial, and incidental commercial catch during salmon troll fishery | 265,402 | 120.38
2A: Incidental commercial during sablefish fishery | 70,000 | 31.75
2B ⁴ | 6,271,971 | 2,844.92
2C ⁵ | 4,212,000 | 1,910.53
3A ⁶ | 7,739,000 | 3,510.36
3B | 3,140,000 | 1,424.28
4A | 1,390,000 | 630.49
4B | 1,140,000 | 517.09
4C | 752,000 | 341.10
4D | 752,000 | 341.10
4E | 196,000 | 88.90

(2) Notwithstanding paragraph (1), regulations pertaining to the division of the Area 2A catch limit between the directed commercial fishery and the incidental catch fishery as described in paragraph (4) of section 8 will be promulgated by NMFS and published in the Federal Register.

⁴ IPHC allocates the catch limit to Area 2B as a combined commercial and sport catch limit (7,450,000 pounds). DFO allocates that amount between commercial and sport according to their allocation policy. In addition to the commercial fishery amount, 60,000 pounds has been allocated for research purposes. This amount also excludes any overage/underage adjustments. See section 27 for sport fishing regulations.

⁵ For Area 2C, the commercial catch limit adopted by the Commission includes catch (4,212,000 pounds) reported in the table plus, estimated incidental mortality from the commercial fishery (123,000 pounds) for a total of 4,335,000 pounds. This total amount is included in the combined commercial and guided sport sector catch limit set by IPHC and allocated by NMFS by a catch sharing plan (5,250,000 pounds).

⁶ For Area 3A, the commercial catch limit adopted by the Commission includes catch (7,739,000 pounds) reported in the table plus, estimated incidental mortality from the commercial fishery (371,000 pounds) for a total of 8,110,000 pounds. This total amount is included in the combined commercial and guided sport sector catch limit set by IPHC and allocated by NMFS by a catch sharing plan (10,000,000 pounds).

(3) The Commission shall determine and announce to the public the date on which the catch limit for Area 2A will be taken.

(4) Notwithstanding paragraph (1), the commercial fishing in Area 2B will close only when all Individual Vessel Quotas (IVQs) assigned by DFO are taken, or November 7, whichever is earlier.

(5) Notwithstanding paragraph (1), Areas 2C, 3A, 3B, 4A, 4B, 4C, 4D, and 4E will each close only when all Individual Fishing Quotas (IFQ) and all CDQs issued by NMFS have been taken, or 7 November, whichever is earlier.

(6) If the Commission determines that the catch limit specified for Area 2A in paragraph (1) would be exceeded in an unrestricted 10-hour fishing period as specified in paragraph (2) of section 8, the catch limit for that area shall be considered to have been taken and the directed commercial fishery closed as announced by the Commission.

(7) When under paragraphs (2), (3), and (6) the Commission has announced a date on which the catch limit for Area 2A will be taken, no person shall fish for halibut in that area after that date for the rest of the year, unless the Commission has announced the reopening of that area for halibut fishing.

(8) Notwithstanding paragraph (1), the total allowable catch of halibut that may be taken in the Area 4E directed commercial fishery is equal to the combined annual catch limits specified for the Area 4D and Area 4E CDQ fisheries. The annual Area 4D CDQ catch limit will decrease by the equivalent amount of halibut CDQ taken in Area 4E in excess of the annual Area 4E CDQ catch limit.

(9) Notwithstanding paragraph (1), the total allowable catch of halibut that may be taken in the Area 4D directed commercial fishery is equal to the combined annual catch limits specified for Area 4C and Area 4D. The annual Area 4C catch limit will decrease by the equivalent amount of halibut taken in Area 4D in excess of the annual Area 4D catch limit.

12. Fishing Period Limits

(1) It shall be unlawful for any vessel to retain more halibut than authorized by that vessel's license in any fishing period for which the Commission has announced a fishing period limit.

(2) The operator of any vessel that fishes for halibut during a fishing period when fishing period limits are in effect must, upon commencing an offload of halibut to a commercial fish processor, completely offload all halibut on board said vessel to that processor and ensure that all halibut is weighed and reported on State fish tickets.

(3) The operator of any vessel that fishes for halibut during a fishing period when fishing period limits are in effect must, upon commencing an offload of halibut other than to a commercial fish processor, completely offload all halibut on board said vessel and ensure that all halibut are weighed and reported on State fish tickets.

(4) The provisions of paragraph (3) are not intended to prevent retail over-the-side sales to individual purchasers so long as all the halibut on board is ultimately offloaded and reported.

(5) When fishing period limits are in effect, a vessel's maximum retainable catch will be determined by the Commission based on:

(a) The vessel's overall length in feet and associated length class;

(b) the average performance of all vessels within that class; and

(c) the remaining catch limit.

(6) Length classes are shown in the following table:

Overall length (in feet) | Vessel class
1-25 | A
26-30 | B
31-35 | C
36-40 | D
41-45 | E
46-50 | F
51-55 | G
56+ | H

(7) Fishing period limits in Area 2A apply only to the directed halibut fishery referred to in paragraph (2) of section 8.

13. Size Limits

(1) No person shall take or possess any halibut that:

(a) With the head on, is less than 32 inches (81.3 cm) as measured in a straight line, passing over the pectoral fin from the tip of the lower jaw with the mouth closed, to the extreme end of the middle of the tail, as illustrated in Figure 2; or

(b) with the head removed, is less than 24 inches (61.0 cm) as measured from the base of the pectoral fin at its most anterior point to the extreme end of the middle of the tail, as illustrated in Figure 2.

(2) No person on board a vessel fishing for, or tendering halibut shall possess any halibut that has had its head removed, except that halibut frozen at sea with its head removed may be possessed on board a vessel by persons in Areas 2B, 2C, 3A, 3B, 4A, 4B, 4C, 4D, and 4E if authorized by Federal regulations.

(3) The size limit in paragraph (1)(b) will not be applied to any halibut that has had its head removed after the operator has landed the halibut.

14. Careful Release of Halibut

(1) All halibut that are caught and are not retained shall be immediately released outboard of the roller and returned to the sea with a minimum of injury by:

(a) Hook straightening;

(b) cutting the gangion near the hook; or

(c) carefully removing the hook by twisting it from the halibut with a gaff.

(2) Except that paragraph (1) shall not prohibit the possession of halibut on board a vessel that has been brought aboard to be measured to determine if the minimum size limit of the halibut is met and, if sublegal-sized, is promptly returned to the sea with a minimum of injury.

15. Vessel Clearance in Area 4

(1) The operator of any vessel that fishes for halibut in Areas 4A, 4B, 4C, or 4D must obtain a vessel clearance before fishing in any of these areas, and before the landing of any halibut caught in any of these areas, unless specifically exempted in paragraphs (10), (13), (14), (15), or (16).

(2) An operator obtaining a vessel clearance required by paragraph (1) must obtain the clearance in person from the authorized clearance personnel and sign the IPHC form documenting that a clearance was obtained, except that when the clearance is obtained via VHF radio referred to in paragraphs (5), (8), and (9), the authorized clearance personnel must sign the IPHC form documenting that the clearance was obtained.

(3) The vessel clearance required under paragraph (1) prior to fishing in Area 4A may be obtained only at Nazan Bay on Atka Island, Dutch Harbor or Akutan, Alaska, from an authorized officer of the United States, a representative of the Commission, or a designated fish processor.

(4) The vessel clearance required under paragraph (1) prior to fishing in Area 4B may only be obtained at Nazan Bay on Atka Island or Adak, Alaska, from an authorized officer of the United States, a representative of the Commission, or a designated fish processor.

(5) The vessel clearance required under paragraph (1) prior to fishing in Area 4C or 4D may be obtained only at St. Paul or St. George, Alaska, from an authorized officer of the United States, a representative of the Commission, or a designated fish processor by VHF radio and allowing the person contacted to confirm visually the identity of the vessel.

(6) The vessel operator shall specify the specific regulatory area in which fishing will take place.

(7) Before unloading any halibut caught in Area 4A, a vessel operator may obtain the clearance required under paragraph (1) only in Dutch Harbor or Akutan, Alaska, by contacting an authorized officer of the United States, a representative of the Commission, or a designated fish processor.

(8) Before unloading any halibut caught in Area 4B, a vessel operator may obtain the clearance required under paragraph (1) only in Nazan Bay on Atka Island or Adak, by contacting an authorized officer of the United States, a representative of the Commission, or a designated fish processor by VHF radio or in person.

(9) Before unloading any halibut caught in Area 4C and 4D, a vessel operator may obtain the clearance required under paragraph (1) only in St. Paul, St. George, Dutch Harbor, or Akutan, Alaska, either in person or by contacting an authorized officer of the United States, a representative of the Commission, or a designated fish processor. The clearances obtained in St. Paul or St. George, Alaska, can be obtained by VHF radio and allowing the person contacted to confirm visually the identity of the vessel.

(10) Any vessel operator who complies with the requirements in section 18 for possessing halibut on board a vessel that was caught in more than one regulatory area in Area 4 is exempt from the clearance requirements of paragraph (1) of this section, provided that:g

(a) The operator of the vessel obtains a vessel clearance prior to fishing in Area 4 in either Dutch Harbor, Akutan, St. Paul, St. George, Adak, or Nazan Bay on Atka Island by contacting an authorized officer of the United States, a representative of the Commission, or a designated fish processor. The clearance obtained in St. Paul, St. George, Adak, or Nazan Bay on Atka Island can be obtained by VHF radio and allowing the person contacted to confirm visually the identity of the vessel. This clearance will list the areas in which the vessel will fish; and

(b) before unloading any halibut from Area 4, the vessel operator obtains a vessel clearance from Dutch Harbor, Akutan, St. Paul, St. George, Adak, or Nazan Bay on Atka Island by contacting an authorized officer of the United States, a representative of the Commission, or a designated fish processor. The clearance obtained in St. Paul or St. George can be obtained by VHF radio and allowing the person contacted to confirm visually the identity of the vessel. The clearance obtained in Adak or Nazan Bay on Atka Island can be obtained by VHF radio.

(11) Vessel clearances shall be obtained between 0600 and 1800 hours, local time.

(12) No halibut shall be on board the vessel at the time of the clearances required prior to fishing in Area 4.

(13) Any vessel that is used to fish for halibut only in Area 4A and lands its total annual halibut catch at a port within Area 4A is exempt from the clearance requirements of paragraph (1).

(14) Any vessel that is used to fish for halibut only in Area 4B and lands its total annual halibut catch at a port within Area 4B is exempt from the clearance requirements of paragraph (1).

(15) Any vessel that is used to fish for halibut only in Area 4C or 4D or 4E and lands its total annual halibut catch at a port within Area 4C, 4D, 4E, or the closed area defined in section 10, is exempt from the clearance requirements of paragraph (1).

(16) Any vessel that carries a transmitting VMS transmitter while fishing for halibut in Area 4A, 4B, 4C, or 4D and until all halibut caught in any of these areas is landed, is exempt from the clearance requirements of paragraph (1) of this section, provided that:

(a) The operator of the vessel complies with NMFS' vessel monitoring system regulations published at 50 CFR 679.28(f)(3), (4) and (5); and

(b) the operator of the vessel notifies NOAA Fisheries Office for Law Enforcement at 800-304-4846 (select option 1 to speak to an Enforcement Data Clerk) between the hours of 0600 and 0000 (midnight) local time within 72 hours before fishing for halibut in Area 4A, 4B, 4C, or 4D and receives a VMS confirmation number.

16. Logs

(1) The operator of any U.S. vessel fishing for halibut that has an overall length of 26 feet (7.9 meters) or greater shall maintain an accurate log of halibut fishing operations. The operator of a vessel fishing in waters in and off Alaska must use one of the following logbooks: The Groundfish/IFQ Longline and Pot Gear Daily Fishing Logbook, in electronic or paper form, provided by NMFS; the Alaska hook-and-line logbook provided by Petersburg Vessel Owners Association or Alaska Longline Fisherman's Association; the Alaska Department of Fish and Game (ADF&G) longline-pot logbook; or the logbook provided by IPHC. The operator of a vessel fishing in Area 2A must use either the WDFW Voluntary Sablefish Logbook, Oregon Department of Fish and Wildlife (ODFW) Fixed Gear Logbook, or the logbook provided by IPHC.

(2) The logbook referred to in paragraph (1) must include the following information:

(a) The name of the vessel and the State (ADF&G, WDFW, ODFW, or CDFW) or Tribal ID number;

(b) the date(s) upon which the fishing gear is set or retrieved;

(c) the latitude and longitude coordinates or a direction and distance from a point of land for each set or day;

(d) the number of skates deployed or retrieved, and number of skates lost; and

(e) the total weight or number of halibut retained for each set or day.

(3) The logbook referred to in paragraph (1) shall be:

(a) Maintained on board the vessel;

(b) updated not later than 24 hours after 0000 (midnight) local time for each day fished and prior to the offloading or sale of halibut taken during that fishing trip;

(c) retained for a period of two years by the owner or operator of the vessel;

(d) open to inspection by an authorized officer or any authorized representative of the Commission upon demand; and

(e) kept on board the vessel when engaged in halibut fishing, during transits to port of landing, and until the offloading of all halibut is completed.

(4) The log referred to in paragraph (1) does not apply to the incidental halibut fishery during the salmon troll season in Area 2A defined in paragraph (4) of section 8.

(5) The operator of any Canadian vessel fishing for halibut shall maintain an accurate record in the British Columbia Integrated Groundfish Fishing Log.

(6) The log referred to in paragraph (5) must include the following information:

(a) The name of the vessel and the DFO vessel registration number;

(b) the date(s) upon which the fishing gear is set and retrieved;

(c) the latitude and longitude coordinates for each set;

(d) the number of skates deployed or retrieved, and number of skates lost; and

(e) the total weight or number of halibut retained for each set.

(7) The log referred to in paragraph (5) shall be:

(a) Maintained on board the vessel;

(b) retained for a period of two years by the owner or operator of the vessel;

(c) open to inspection by an authorized officer or any authorized representative of the Commission upon demand;

(d) kept on board the vessel when engaged in halibut fishing, during transits to port of landing, and until the offloading of all halibut is completed;

(e) submitted to the DFO within seven days of offloading; and

(f) submitted to the Commission within seven days of the final offload if not previously collected by a Commission employee.

(8) No person shall make a false entry in a log referred to in this section.

17. Receipt and Possession of Halibut

(1) No person shall receive halibut caught in Area 2A from a United States vessel that does not have on board the license required by section 4.

(2) No person shall possess on board a vessel a halibut other than whole or with gills and entrails removed, except that this paragraph shall not prohibit the possession on board a vessel of:

(a) Halibut cheeks cut from halibut caught by persons authorized to process the halibut on board in accordance with NMFS regulations published at 50 CFR part 679;

(b) fillets from halibut offloaded in accordance with section 17 that are possessed on board the harvesting vessel in the port of landing up to 1800 hours local time on the calendar day following the offload; ⁷ and

⁷ DFO has more restrictive regulations; therefore, section 17 paragraph (2)(b) does not apply to fish caught in Area 2B or landed in British Columbia.

(c) halibut with their heads removed in accordance with section 13.

(3) No person shall offload halibut from a vessel unless the gills and entrails have been removed prior to offloading.⁸

⁸ DFO did not adopt this regulation; therefore, section 17 paragraph (3) does not apply to fish caught in Area 2B.

(4) It shall be the responsibility of a vessel operator who lands halibut to continuously and completely offload at a single offload site all halibut on board the vessel.

(5) A registered buyer (as that term is defined in regulations promulgated by NMFS and codified at 50 CFR part 679) who receives halibut harvested in IFQ and CDQ fisheries in Areas 2C, 3A, 3B, 4A, 4B, 4C, 4D, and 4E, directly from the vessel operator that harvested such halibut must weigh all the halibut received and record the following information on Federal catch reports: Date of offload; name of vessel; vessel number (State, Tribal or Federal, not IPHC vessel number); scale weight obtained at the time of offloading, including the scale weight (in pounds) of halibut purchased by the registered buyer, the scale weight (in pounds) of halibut offloaded in excess of the IFQ or CDQ, the scale weight of halibut (in pounds) retained for personal use or for future sale, and the scale weight (in pounds) of halibut discarded as unfit for human consumption.

(6) The first recipient, commercial fish processor, or buyer in the United States who purchases or receives halibut directly from the vessel operator that harvested such halibut must weigh and record all halibut received and record the following information on State fish tickets: The date of offload; vessel number (State or Federal, not IPHC vessel number) or Tribal ID number; total weight obtained at the time of offload including the weight (in pounds) of halibut purchased; the weight (in pounds) of halibut offloaded in excess of the IFQ, CDQ, or fishing period limits; the weight of halibut (in pounds) retained for personal use or for future sale; and the weight (in pounds) of halibut discarded as unfit for human consumption.

(7) The individual completing the State fish tickets for the Area 2A fisheries as referred to in paragraph (6) must additionally record whether the halibut weight is of head-on or head-off fish.

(8) For halibut landings made in Alaska, the requirements as listed in paragraphs (5) and (6) can be met by recording the information in the Interagency Electronic Reporting Systems, eLandings in accordance with NMFS regulation published at 50 CFR part 679.

(9) The master or operator of a Canadian vessel that was engaged in halibut fishing must weigh and record all halibut on board said vessel at the time offloading commences and record on Provincial fish tickets or Federal catch reports: The date; locality; name of vessel; the name(s) of the person(s) from whom the halibut was purchased; and the scale weight obtained at the time of offloading of all halibut on board the vessel including the pounds purchased, pounds in excess of IVQs, pounds retained for personal use, and pounds discarded as unfit for human consumption.

(10) No person shall make a false entry on a State or Provincial fish ticket or a Federal catch or landing report referred to in paragraphs (5), (6), and (9) of section 17.

(11) A copy of the fish tickets or catch reports referred to in paragraphs (5), (6), and (9) shall be:

(a) Retained by the person making them for a period of three years from the date the fish tickets or catch reports are made; and

(b) open to inspection by an authorized officer or any authorized representative of the Commission.

(12) No person shall possess any halibut taken or retained in contravention of these Regulations.

(13) When halibut are landed to other than a commercial fish processor, the records required by paragraph (6) shall be maintained by the operator of the vessel from which that halibut was caught, in compliance with paragraph (11).

(14) No person shall tag halibut unless the tagging is authorized by IPHC permit or by a Federal or State agency.

18. Fishing Multiple Regulatory Areas

(1) Except as provided in this section, no person shall possess at the same time on board a vessel halibut caught in more than one regulatory area.

(2) Halibut caught in more than one of the Regulatory Areas 2C, 3A, 3B, 4A, 4B, 4C, 4D, or 4E may be possessed on board a vessel at the same time only if:

(a) Authorized by NMFS' regulations published at 50 CFR Section 679.7(f)(4); and

(b) the operator of the vessel identifies the regulatory area in which each halibut on board was caught by separating halibut from different areas in the hold, tagging halibut, or by other means.

19. Fishing Gear

(1) No person shall fish for halibut using any gear other than hook and line gear,

(a) except that vessels licensed to catch sablefish in Area 2B using sablefish trap gear as defined in the Condition of Licence can retain halibut caught as bycatch under regulations promulgated by DFO; or

(b) except that a person may retain halibut taken with longline pot gear in the sablefish IFQ fishery if such retention is authorized by NMFS regulations published at 50 CFR part 679.

(2) No person shall possess halibut taken with any gear other than hook and line gear,

(a) except that vessels licensed to catch sablefish in Area 2B using sablefish trap gear as defined by the Condition of Licence can retain halibut caught as bycatch under regulations promulgated by DFO; or

(b) except that a person may possess halibut taken with longline pot gear in the sablefish IFQ fishery if such possession is authorized by NMFS regulations published at 50 CFR part 679.

(3) No person shall possess halibut while on board a vessel carrying any trawl nets or fishing pots capable of catching halibut,

(a) except that in Areas 2C, 3A, 3B, 4A, 4B, 4C, 4D, or 4E, halibut heads, skin, entrails, bones or fins for use as bait may be possessed on board a vessel carrying pots capable of catching halibut, provided that a receipt documenting purchase or transfer of these halibut parts is on board the vessel; or

(b) except that in Areas 2C, 3A, 3B, 4A, 4B, 4C, 4D, or 4E, halibut may be possessed on board a vessel carrying pots capable of catching halibut, provided such possession is authorized by NMFS regulations published at 50 CFR part 679 as referenced in paragraphs (1) and (2) of this section; or

(c) except that in Area 2B, halibut may be possessed on board a vessel carrying sablefish trap gear, provided such possession is authorized by the Condition of Licence regulations promulgated by DFO as referenced in paragraphs (1) and (2) of this section.

(4) All setline or skate marker buoys carried on board or used by any United States vessel used for halibut fishing shall be marked with one of the following:

(a) The vessel's State license number; or

(b) the vessel's registration number.

(5) The markings specified in paragraph (4) shall be in characters at least four inches in height and one-half inch in width in a contrasting color visible above the water and shall be maintained in legible condition.

(6) All setline or skate marker buoys carried on board or used by a Canadian vessel used for halibut fishing shall be:

(a) Floating and visible on the surface of the water; and

(b) legibly marked with the identification plate number of the vessel engaged in commercial fishing from which that setline is being operated.

(7) No person on board a vessel used to fish for any species of fish anywhere in Area 2A during the 72-hour period immediately before the fishing period for the directed commercial fishery shall catch or possess halibut anywhere in those waters during that halibut fishing period unless, prior to the start of the halibut fishing period, the vessel has removed its gear from the water and has either:

(a) Made a landing and completely offloaded its catch of other fish; or

(b) submitted to a hold inspection by an authorized officer.

(8) No vessel used to fish for any species of fish anywhere in Area 2A during the 72-hour period immediately before the fishing period for the directed commercial fishery may be used to catch or possess halibut anywhere in those waters during that halibut fishing period unless, prior to the start of the halibut fishing period, the vessel has removed its gear from the water and has either:

(a) Made a landing and completely offloaded its catch of other fish; or

(b) submitted to a hold inspection by an authorized officer.

(9) No person on board a vessel from which setline gear was used to fish for any species of fish anywhere in Areas 2B, 2C, 3A, 3B, 4A, 4B, 4C, 4D, or 4E during the 72-hour period immediately before the opening of the halibut fishing season shall catch or possess halibut anywhere in those areas until the vessel has removed all of its setline gear from the water and has either:

(a) Made a landing and completely offloaded its entire catch of other fish; or

(b) submitted to a hold inspection by an authorized officer.

(10) No vessel from which setline gear was used to fish for any species of fish anywhere in Areas 2B, 2C, 3A, 3B, 4A, 4B, 4C, 4D, or 4E during the 72-hour period immediately before the opening of the halibut fishing season may be used to catch or possess halibut anywhere in those areas until the vessel has removed all of its setline gear from the water and has either:

(a) Made a landing and completely offloaded its entire catch of other fish; or

(b) submitted to a hold inspection by an authorized officer.

(11) Notwithstanding any other provision in these Regulations, a person may retain, possess and dispose of halibut taken with trawl gear only as authorized by Prohibited Species Donation regulations of NMFS.

20. Supervision of Unloading and Weighing

The unloading and weighing of halibut may be subject to the supervision of authorized officers to assure the fulfillment of the provisions of these Regulations.

21. Retention of Tagged Halibut

(1) Nothing contained in these Regulations prohibits any vessel at any time from retaining and landing a halibut that bears a Commission external tag at the time of capture, if the halibut with the tag still attached is reported at the time of landing and made available for examination by a representative of the Commission or by an authorized officer.

(2) After examination and removal of the tag by a representative of the Commission or an authorized officer, the halibut:

(a) May be retained for personal use; or

(b) may be sold only if the halibut is caught during commercial halibut fishing and complies with the other commercial fishing provisions of these Regulations.

(3) Any halibut that bears a Commission external tag must count against commercial IVQs, CDQs, or IFQs, unless otherwise exempted by State, Provincial, or Federal regulations.

(4) Any halibut that bears a Commission external tag will not count against sport daily bag limits or possession limits, may be retained outside of sport fishing seasons, and are not subject to size limits in these regulations.

(5) Any halibut that bears a Commission external tag will not count against daily bag limits, possession limits, or catch limits in the fisheries described in section 22, paragraph (7), section 23, or section 24.

22. Fishing by United States Treaty Indian Tribes

(1) Halibut fishing in Subarea 2A-1 by members of United States treaty Indian tribes located in the State of Washington shall be regulated under regulations promulgated by NMFS and published in the Federal Register.

(2) Subarea 2A-1 includes all waters off the coast of Washington that are north of the Quinault River, WA (47°21.00′ N. lat.), and east of 125°44.00′ W. long; all waters off the coast of Washington that are between the Quinault River, WA (47°21.00′ N. lat.), and Point Chehalis, WA (46°53.30′ N. lat.), and east of 125°08.50′ W. long.; and all inland marine waters of Washington.

(3) Section 13 (size limits), section 14 (careful release of halibut), section 16 (logs), section 17 (receipt and possession of halibut) and section 19 (fishing gear), except paragraphs (7) and (8) of section 19, apply to commercial fishing for halibut in Subarea 2A-1 by the treaty Indian tribes.

(4) Regulations in paragraph (3) of this section that apply to State fish tickets apply to Tribal tickets that are authorized by WDFW.

(5) Section 4 (Licensing Vessels for Area 2A) does not apply to commercial fishing for halibut in Subarea 2A-1 by treaty Indian tribes.

(6) Commercial fishing for halibut in Subarea 2A-1 is permitted with hook and line gear from 11 March through 7 November, or until 435,900 pounds (197.72 metric tons) net weight is taken, whichever occurs first.

(7) Ceremonial and subsistence fishing for halibut in Subarea 2A-1 is permitted with hook and line gear from 1 January through 31 December, and is estimated to take 29,600 pounds (13.43 metric tons) net weight.

23. Customary and Traditional Fishing in Alaska

(1) Customary and traditional fishing for halibut in Regulatory Areas 2C, 3A, 3B, 4A, 4B, 4C, 4D, and 4E shall be governed pursuant to regulations promulgated by NMFS and published in 50 CFR part 300.

(2) Customary and traditional fishing is authorized from 1 January through 31 December.

24. Aboriginal Groups Fishing for Food, Social and Ceremonial Purposes in British Columbia

(1) Fishing for halibut for food, social and ceremonial purposes by Aboriginal groups in Regulatory Area 2B shall be governed by the Fisheries Act of Canada and regulations as amended from time to time.

25. Sport Fishing for Halibut—General

(1) No person shall engage in sport fishing for halibut using gear other than a single line with no more than two hooks attached; or a spear.

(2) Any size limit promulgated under IPHC or NMFS regulations shall be measured in a straight line passing over the pectoral fin from the tip of the lower jaw with the mouth closed, to the extreme end of the middle of the tail.

(3) Any halibut brought aboard a vessel and not immediately returned to the sea with a minimum of injury will be included in the daily bag limit of the person catching the halibut.

(4) No person may possess halibut on a vessel while fishing in a closed area.

(5) No halibut caught by sport fishing shall be offered for sale, sold, traded, or bartered.

(6) No halibut caught in sport fishing shall be possessed on board a vessel when other fish or shellfish aboard said vessel are destined for commercial use, sale, trade, or barter.

(7) The operator of a charter vessel shall be liable for any violations of these Regulations committed by an angler on board said vessel. In Alaska, the charter vessel guide, as defined in 50 CFR 300.61 and referred to in 50 CFR 300.65, 300.66, and 300.67, shall be liable for any violation of these Regulations committed by an angler on board a charter vessel.

26. Sport Fishing for Halibut—Area 2A

(1) The total allowable catch of halibut shall be limited to:

(a) 237,762 pounds (107.85 metric tons) net weight in waters off Washington;

(b) 256,757 pounds (116.46 metric tons) net weight in waters off Oregon; and

(c) 34,580 pounds (15.69 metric tons) net weight in waters off California.

(2) The Commission shall determine and announce closing dates to the public for any area in which the catch limits promulgated by NMFS are estimated to have been taken.

(3) When the Commission has determined that a subquota under paragraph (8) of this section is estimated to have been taken, and has announced a date on which the season will close, no person shall sport fish for halibut in that area after that date for the rest of the year, unless a reopening of that area for sport halibut fishing is scheduled in accordance with the Catch Sharing Plan for Area 2A, or announced by the Commission.

(4) In California, Oregon, or Washington, no person shall fillet, mutilate, or otherwise disfigure a halibut in any manner that prevents the determination of minimum size or the number of fish caught, possessed, or landed.

(5) The possession limit on a vessel for halibut in the waters off the coast of Washington is the same as the daily bag limit. The possession limit for halibut on land in Washington is two daily bag limits.

(6) The possession limit on a vessel for halibut caught in the waters off the coast of Oregon is the same as the daily bag limit. The possession limit for halibut on land in Oregon is three daily bag limits.

(7) The possession limit on a vessel for halibut caught in the waters off the coast of California is one daily bag limit. The possession limit for halibut on land in California is one daily bag limit.

(8) [The Area 2A CSP will be published under a separate final rule that, once published, will be available on the NOAA Fisheries West Coast Region's Web site at http://www.westcoast.fisheries.noaa.gov/fisheries/management/pacific_halibut_management.html, and under FDMS Docket Number NOAA-NMFS-2016-0144 at www.regulations.gov.]

27. Sport Fishing for Halibut—Area 2B

(1) In all waters off British Columbia: ⁹ ¹⁰

(a) The sport fishing season will open on 1 February unless more restrictive regulations are in place;

(b) the sport fishing season will close when the sport catch limit allocated by DFO, is taken, or 31 December, whichever is earlier; and

(c) the daily bag limit is two halibut of any size per day per person.

(2) In British Columbia, no person shall fillet, mutilate, or otherwise disfigure a halibut in any manner that prevents the determination of minimum size or the number of fish caught, possessed, or landed.

(3) The possession limit for halibut in the waters off the coast of British Columbia is three halibut.⁹ ¹⁰

⁹ DFO could implement more restrictive regulations for the sport fishery; therefore, anglers are advised to check the current Federal or Provincial regulations prior to fishing.

¹⁰ For regulations on the experimental recreational fishery implemented by DFO, check the current Federal or Provincial regulations.

28. Sport Fishing for Halibut—Areas 2C, 3A, 3B, 4A, 4B, 4C, 4D, 4E

(1) In Convention waters in and off Alaska: ¹¹ ¹²

¹¹ NMFS could implement more restrictive regulations for the sport fishery or components of it; therefore, anglers are advised to check the current Federal or State regulations prior to fishing.

¹² Charter vessels are prohibited from harvesting halibut in Areas 2C and 3A during one charter vessel fishing trip under regulations promulgated by NMFS at 50 CFR 300.66.

(a) The sport fishing season is from 1 February to 31 December.

(b) The daily bag limit is two halibut of any size per day per person unless a more restrictive bag limit applies in Commission regulations or Federal regulations at 50 CFR 300.65.

(c) No person may possess more than two daily bag limits.

(d) No person shall possess on board a vessel, including charter vessels and pleasure craft used for fishing, halibut that have been filleted, mutilated, or otherwise disfigured in any manner, except that each halibut may be cut into no more than 2 ventral pieces, 2 dorsal pieces, and 2 cheek pieces, with skin on all pieces.

(e) Halibut in excess of the possession limit in paragraph (1)(c) of this section may be possessed on a vessel that does not contain sport fishing gear, fishing rods, hand lines, or gaffs.

(f) All halibut harvested on a charter vessel fishing trip in Area 2C or Area 3A must be retained on board the charter vessel on which the halibut was caught until the end of the charter vessel fishing trip as defined at 50 CFR 300.61.

(g) Guided angler fish (GAF), as described at 50 CFR 300.65, may be used to allow a charter vessel angler to harvest additional halibut up to the limits in place for unguided anglers, and are exempt from the requirements in paragraphs 2 and 3 of this section.

(2) For guided sport fishing (as referred to in 50 CFR 300.65) in Regulatory Area 2C:

(a) The total allocation, including estimated harvest and incidental mortality (wastage), is 915,000 pounds (415.04 metric tons).

(b) No person on board a charter vessel (as referred to in 50 CFR 300.65) shall catch and retain more than one halibut per calendar day.

(c) No person on board a charter vessel (as referred to in 50 CFR 300.65) shall catch and retain any halibut that with head on is greater than 44 inches (111.8 cm) and less than 80 inches (203.2 cm) as measured in a straight line, passing over the pectoral fin from the tip of the lower jaw with mouth closed, to the extreme end of the middle of the tail, as illustrated in Figure 3.

(3) For guided sport fishing (as referred to in 50 CFR 300.65) in Regulatory Area 3A:

(a) The total allocation, including estimated harvest and incidental mortality (wastage), is 1,890,000 pounds (857.29 metric tons).

(b) No person on board a charter vessel (as referred to in 50 CFR 300.65) shall catch and retain more than two halibut per calendar day.

(c) At least one of the retained halibut must have a head-on length of no more than 28 inches (71.1 cm) as measured in a straight line, passing over the pectoral fin from the tip of the lower jaw with mouth closed, to the extreme end of the middle of the tail, as illustrated in Figure 4. If a person sport fishing on a charter vessel in Area 3A retains only one halibut in a calendar day, that halibut may be of any length.

(d) A charter halibut permit (as referred to in 50 CFR 300.67) may only be used for one charter vessel fishing trip in which halibut are caught and retained per calendar day. A charter vessel fishing trip is defined at 50 CFR 300.61 as the time period between the first deployment of fishing gear into the water by a charter vessel angler (as defined at 50 CFR 300.61) and the offloading of one or more charter vessel anglers or any halibut from that vessel. For purposes of this trip limit, a charter vessel fishing trip ends at 11:59 p.m. (Alaska local time) on the same calendar day that the fishing trip began, or when any anglers or halibut are offloaded, whichever comes first.

(e) A charter vessel on which one or more anglers catch and retain halibut may only make one charter vessel fishing trip per calendar day. A charter vessel fishing trip is defined at 50 CFR 300.61 as the time period between the first deployment of fishing gear into the water by a charter vessel angler (as defined at 50 CFR 300.61) and the offloading of one or more charter vessel anglers or any halibut from that vessel. For purposes of this trip limit, a charter vessel fishing trip ends at 11:59 p.m. (Alaska local time) on the same calendar day that the fishing trip began, or when any anglers or halibut are offloaded, whichever comes first.

(f) No person on board a charter vessel may catch and retain halibut on any Wednesday, or on the following Tuesdays: 18 July, 25 July, and 1 August.

(g) Charter vessel anglers may catch and retain no more than four (4) halibut per calendar year on board charter vessels in Area 3A. Halibut that are retained as GAF, retained while on a charter vessel fishing trip in other Commission regulatory areas, or retained while fishing without the services of a guide do not accrue toward the 4-fish annual limit. For purposes of enforcing the annual limit, each angler must:

(1) Maintain a nontransferable harvest record in the angler's possession if retaining a halibut for which an annual limit has been established. Such harvest record must be maintained either on the back of the angler's State of Alaska sport fishing license or on a Sport Fishing Harvest Record Card obtained, without charge, from ADF&G offices, the ADF&G Web site, or fishing license vendors; and

(2) immediately upon retaining a halibut for which an annual limit has been established, record the date, location (Area 3A), and species of the catch (halibut), in ink, on the harvest record; and

(3) record the information required by paragraph 3(g)(2) on any duplicate or additional sport fishing license issued to the angler or any duplicate or additional Sport Fishing Harvest Record Card obtained by the angler for all halibut previously retained during that year that were subject to the harvest record reporting requirements of this section; and

(4) carry the harvest record on his or her person while fishing for halibut.

29. Previous Regulations Superseded

These Regulations shall supersede all previous regulations of the Commission, and these Regulations shall be effective each succeeding year until superseded.

BILLING CODE 3510-22-P

Classification

IPHC Regulations

These IPHC annual management measures are a product of an agreement between the United States and Canada and are published in the Federal Register to provide notice of their effectiveness and content. Pursuant to section 4 of the Northern Pacific Halibut Act of 1982, 16 U.S.C. 773c, the Secretary of State, with the concurrence of the Secretary of Commerce, may “accept or reject” but not modify these recommendations of the IPHC. The notice-and-comment and delay-in-effectiveness date provisions of the Administrative Procedure Act (APA), 5 U.S.C. 553(c) and (d), are inapplicable to IPHC management measures because this regulation involves a foreign affairs function of the United States, 5 U.S.C. 553(a)(1). The additional time necessary to comply with the notice-and-comment and delay-in-effectiveness requirements of the APA would disrupt coordinated international conservation and management of the halibut fishery pursuant to the Convention. Furthermore, no other law requires prior notice and public comment for this rule. Because prior notice and an opportunity for public comment are not required to be provided for these portions of this rule by 5 U.S.C. 553, or any other law, the analytical requirements of the Regulatory Flexibility Act, 5 U.S.C. 601 et seq., are not applicable. Accordingly, no Regulatory Flexibility Analysis is required for this portion of the rule and none has been prepared.

Authority: 16 U.S.C. 773 et seq.

Dated: March 2, 2017.
Alan D. Risenhoover,
Acting Deputy Assistant Administrator for Regulatory Programs, National Marine Fisheries Service.

[FR Doc. 2017-04407 Filed 3-3-17; 8:45 am]

BILLING CODE 3510-22-C